DEPARTMENT OF THE INTERIOR

Bureau of Land Management

Public Land Order No. 7885; El Paso Project 2, Luna and Hidalgo Counties, NM

AGENCY: Bureau of Land Management, Interior.

ACTION: Public Land Order.

SUMMARY: This Order withdraws, subject to valid existing rights, approximately 176.23 acres of Federal lands from settlement, sale, location, and entry under the general land laws, including the United States mining laws, mineral leasing laws, and geothermal leasing laws, for a period of 3 years for use by the Department of the Army for border security purposes. This withdrawal also transfers administrative jurisdiction of the lands to the Department of the Army.

DATES: This PLO takes effect on September 18, 2019.

FOR FURTHER INFORMATION CONTACT: Timothy Spisak, State Director New Mexico, telephone: 505-954-2222, email: tspisak@blm.gov.

Persons who use a telecommunications device for the deaf (TDD) may call the Federal Relay Service (FRS) at 1-800-877-8339 to contact Mr. Spisak. The FRS is available 24 hours a day, 7 days a week, to leave a message or question. You will receive a reply during normal business hours.

SUPPLEMENTARY INFORMATION:

Order

By virtue of the authority vested in the Secretary of the Interior by section 204 of the Federal Land Policy and Management Act of 1976, 43 U.S.C. 1714, and in accordance with subsection 204(e) of that Act, it is determined that an emergency situation exists and that extraordinary measures must be taken to preserve values that would otherwise be lost. It is therefore ordered as follows:

1. Subject to valid existing rights, the following described Federal lands are hereby withdrawn from settlement, sale, location, and entry under the general land laws, including the United States mining laws, mineral leasing laws, and geothermal leasing laws, and jurisdiction over such lands is hereby transferred to the Department of the Army for border security purposes.

A strip of land of the uniform width of 60 feet lying contiguous to and parallel with the international border between the United States and Mexico, currently subject to Presidential Proclamation No. 758, 35 Stat. 2136 (May 27, 1907), located in the County of Luna, State of New Mexico, and situate in the following described locations:

New Mexico Principal Meridian, New Mexico

T. 29 S, R. 11 W,

Secs. 16 thru 18.

T. 29 S, R. 12 W,

Secs. 13 thru 18.

T. 29 S, R. 13 W,

Secs. 13 thru 16.

The area described aggregates 94.76 acres.

A strip of land of the uniform width of 60 feet lying contiguous to and parallel with the international border between the United States and Mexico, currently subject to Presidential Proclamation No. 758, 35 Stat. 2136 (May 27, 1907), located in the County of Hidalgo, State of New Mexico, and situate in the following described locations:

New Mexico Principal Meridian, New Mexico

T. 34 S, R. 16 W,

Sec. 19;

Sec. 20;

Sec. 21, W of the N and S centerline of SW¼.

T. 34 S, R. 17 W,

Sec. 20; E of the N and S centerline of SE¼;

Secs. 21 thru 24.

The area described aggregates 47.39 acres.

A strip of land of the uniform width of 60 feet lying contiguous to and parallel with the international border between the United States and Mexico, currently subject to Presidential Proclamation No. 758, 35 Stat. 2136 (May 27, 1907), located in the County of Hidalgo, State of New Mexico, and situate in the following described locations:

New Mexico Principal Meridian, New Mexico

T. 34 S, R. 20 W,

Sec 19;

Sec. 20;

Sec. 21, W of the N and S centerline of SW¼.

T. 34 S, R. 21 W,

Sec. 22, E of the N and S centerline;

Sec. 23;

Sec. 24.

The area described aggregates 34.08 acres.

The areas described above aggregate approximately 176.23 acres of Federal lands in Luna and Hidalgo counties.

2. This withdrawal will expire 3 years from the effective date of this Order, unless it is extended in accordance with subsections (c)(1) or (d), whichever is applicable, and (b)(1) of Section 204 of the Federal Land Policy and Management Act of 1976, 43 U.S.C. 1714.

Dated: September 18, 2019.
David L. Bernhardt,
Secretary of the Interior.

[FR Doc. 2019-20718 Filed 9-23-19; 8:45 am]

BILLING CODE 3720-58-P